DEPARTMENT OF ENERGY

Federal Energy Regulatory Commission

[Docket No. PF07-15-000]

Algonquin Gas Transmission, LLC; Supplemental Notice of Intent To Prepare an Environmental Impact Statement for the Proposed East to West Hubline Expansion Project and Request for Comments on Environmental Issues Related to an Alternative Pipeline Route Under Consideration

April 14, 2008.

The staff of the Federal Energy Regulatory Commission (FERC or Commission) is preparing an environmental impact statement (EIS) that will discuss the environmental impacts that could result from the construction and operation of the East to West HubLine Expansion Project (E2W Project or Project). The E2W Project is proposed by Algonquin Gas Transmission, LLC (Algonquin), which is an indirect wholly owned subsidiary of Spectra Energy Corp. The FERC is the lead federal agency in the preparation of the EIS, and is preparing the EIS to satisfy the requirements of the National Environmental Policy Act (NEPA). The Commission will use the EIS in its decision-making process to determine whether or not to authorize the Project.

Although no formal application has been filed with the FERC, we ¹ have initiated our NEPA review under the FERC's Pre-Filing Process. The purpose of the Pre-Filing Process is to encourage the early involvement of interested stakeholders and to identify and resolve issues before an application is filed with the FERC. The initial Notice of Intent (NOI) for this Project was issued by the FERC on October 16, 2007. Since that time, Algonquin has reduced the scope of the Project and has announced that it is considering adopting an alternative pipeline route in the Stoughton and Canton, Massachusetts area, the Cross Country Alternative 4. With this NOI, we are specifically requesting comments on the Cross Country Alternative 4. Further details on how to submit comments are provided in the Public Participation section of this NOI. Please note that comments on this NOI are requested by May 14, 2008.

¹ “We,” “us,” and “our” refer to the environmental staff of the FERC's Office of Energy Projects.

This NOI is being sent to landowners affected by the initially proposed Project (including those no longer affected due to the reduction in Project facilities); landowners affected by the Cross Country Alternative 4; federal, state, and local government agencies; elected officials; environmental and public interest groups; Native American tribes; other interested parties; and local libraries and newspapers. We encourage government representatives to notify their constituents of this planned Project and encourage them to comment on their areas of concern.

If you are a landowner receiving this notice, you may be contacted by an Algonquin representative about the acquisition of an easement to construct, operate, and maintain the proposed Project facilities. Algonquin would seek to negotiate a mutually acceptable agreement. However, if the Project is approved by the FERC, that approval conveys with it the right of eminent domain. Therefore, if easement negotiations fail to produce an agreement, the pipeline company could initiate condemnation proceedings in accordance with state law.

A number of fact sheets prepared by the FERC, including “An Interstate Natural Gas Facility On My Land? What Do I Need To Know?” and “Guide to Electronic Information at FERC,” are available for viewing on the FERC Internet Web site (http://www.ferc.gov), using the “For Citizens” link. These fact sheets address a number of typically asked questions including how to participate in the Commission's proceedings and how to access information on FERC-regulated projects in your area.

Involvement of Other Agencies

The U.S. Army Corps of Engineers and the U.S. Environmental Protection Agency have agreed to participate as cooperating agencies in the preparation of the EIS to satisfy their respective NEPA responsibilities. The Project must also undergo an environmental review pursuant to the Massachusetts Environmental Policy Act (MEPA). The Massachusetts Executive Office of Energy and Environmental Affairs (MEEA) is the lead state agency with responsibility for ensuring compliance with the MEPA regulations for interstate natural gas pipeline projects. The FERC and the MEEA are conducting a coordinated NEPA/MEPA review of the E2W Project through use of a Special Review Procedure.

Summary of the Proposed Project

Algonquin proposes to modify portions of its existing pipeline system in Massachusetts, Rhode Island, Connecticut, New York, and New Jersey. In the initial NOI, the E2W Project included construction and operation of 46.1 miles of various diameter pipeline and associated ancillary pipeline facilities. In addition, Algonquin proposed to construct 2 new compressor stations in Massachusetts, install over-pressure protection regulation at 4 sites in Massachusetts, and install minor modifications at 5 existing compressor stations and 29 existing meter stations along Algonquin's system in the 5 Project states.

Since that time, Algonquin has reduced the scope of the E2W Project by removing approximately 12.2 miles of the proposed Q-1 System Replacement in Norfolk County, Massachusetts and the entire 3.6 miles of the proposed C-1 System Replacement in New Haven County, Connecticut. The Boxford Compressor Station in Essex County, Massachusetts; the corresponding alternative Danvers Compressor Station in Essex County, Massachusetts; and modifications to the Chaplin Compressor Station in Windham County, Connecticut have also been removed from the proposal.

The revised Project scope currently proposed by Algonquin consists of 30.3 miles of various diameter pipeline, of which 13.0 miles would consist of new pipeline in Massachusetts and 17.3 miles would consist of the replacement of existing pipeline in Massachusetts and Connecticut, one new compressor station, modifications to existing compressor and meter stations, and other aboveground facilities as described in more detail below. These facilities and the possible environmental impacts from their construction and operation were described in detail in draft resource reports filed with the FERC on February 22, 2008.

• I-10 Extension—construction of approximately 13.0 miles of new 36-inch-diameter pipeline in Norfolk County, Massachusetts;

• Q-1 System Replacement—installation of approximately 6.3 miles of 36-inch-diameter pipeline that would replace a segment of an existing 24-inch-diameter pipeline in Norfolk County, Massachusetts;

• E-3 System Replacement—installation of approximately 11.0 miles of 12-inch-diameter pipeline that would replace a segment of an existing 6- and 4-inch-diameter pipeline in New London County, Connecticut;

• Rehoboth Compressor Station—a new 10,310-horsepower compressor station in Bristol County, Massachusetts;

• Modifications to four existing compressor stations to accommodate bi-directional flow along Algonquin's system including:

○ Burrillville Compressor Station in Providence County, Rhode Island;

○ Cromwell Compressor Station in Middlesex County, Connecticut;

○ Southeast Compressor Station in Putnam County, New York; and

○ Hanover Compressor Station in Morris County, New Jersey;

• Aboveground over-pressure protection regulation at two existing meter stations (Weymouth and Sharon Meter Stations) and at two new regulator stations (end of the I-10 Extension and end of the Q-1 System) along the Algonquin system in Massachusetts;

• Installation of gas chromatographs at 29 existing meter stations in Massachusetts (9), Connecticut (11), Rhode Island (2), New York (5), and New Jersey (2);

• Installation of mainline valves along the proposed pipeline facilities in Massachusetts and Connecticut; and

• Installation of pig ² launcher and receiver facilities to connect with the existing Algonquin facilities in Massachusetts and Connecticut.

² A pig is an internal tool that can be used to clean and dry a pipeline and/or to inspect it for damage or corrosion.

In addition, Algonquin has been evaluating several possible alternative pipeline routes in the Stoughton and Canton, Massachusetts area. Based on input received from landowners, public officials, and other interested parties, Algonquin is seriously considering the Cross Country Alternative 4 route as it finalizes the pipeline alignment that will be proposed to the FERC in its formal application. The Cross Country Alternative 4 would require 1.15 miles of pipeline replacement on Algonquin's Q-system and construction of a 2.4-mile-long pipeline that would create new right-of-way in the general area of Glen Echo Pond on the Canton/Stoughton border before intersecting the NSTAR Gas & Electric Corporation (NSTAR) powerline right-of-way, west of State Highway 24. Use of this alternative would eliminate 2.74 miles of the originally proposed I-10 Extension, of which 1.41 miles would parallel the NSTAR powerline in the vicinity of Pine Street in northeastern Stoughton and 1.33 miles would create new right-of-way across designated open space in the vicinity of the Canton/Stoughton border.

A general overview of the currently proposed major Project facilities is shown in Appendix 1. A map depicting the Cross Country Alternative 4 under consideration and the corresponding segment of the previously proposed route is presented in Appendix 2.³

³ The appendices referenced in this notice are not being printed in the Federal Register. Copies are available on the Commission's Internet Web site (http://www.ferc.gov) at the “eLibrary” link or from the Commission's Public Reference Room, 888 First Street, NE., Washington, DC 20426, or call (202) 502-8371. For instructions on connecting to eLibrary refer to the Additional Information section of this notice. Copies of the appendices were sent to all those receiving this notice in the mail. Requests for detailed maps of the proposed facilities should be made directly to Algonquin by calling 1-800-788-4143.

Algonquin indicates that the proposed Project would provide increased natural gas supplies and enhanced system reliability to natural gas distributors throughout the New England region. Once completed, the Project would provide 746,500 dekatherms per day of additional natural gas transportation service on Algonquin's system. This additional capacity would enable Algonquin to accommodate increased receipts of natural gas from emerging natural gas supplies, including liquefied natural gas (LNG) terminals located offshore at the east end of the Algonquin system, for redelivery to high growth markets in the Northeast Region.

Algonquin anticipates that construction of the E2W Project would begin in April 2009, with a projected in-service date of November 2009.

Land Requirements for Construction

Algonquin indicates that construction of its proposed pipeline and aboveground facilities would require about 491 acres of land, including land requirements for the construction right-of-way, temporary extra work areas, access roads, pipe storage and contractor yards, and aboveground facilities. Following construction, about 156 acres of land would be retained as permanent right-of-way for the pipeline and operation of the aboveground facility sites, of which 74 acres are currently part of Algonquin's existing easement. The remaining 335 acres of land would be restored and allowed to revert to its former use.

In general, the construction rights-of-way for the new and replacement pipelines would range from 75 to 85 feet wide with additional temporary workspace needed at certain feature crossings and to stockpile trench spoil and rock generated from trench excavation. For the majority of the route, the construction rights-of-way would overlap the existing, cleared permanent rights-of-way of Algonquin and NSTAR by various amounts. For example, the centerline of the proposed I-10 Extension pipeline would generally be situated 5 feet inside the existing NSTAR powerline right-of-way. The pipelines for the Q-1 and E-3 Systems would be installed in the same trench as the pipelines they are replacing to the extent practicable. This same-trench replacement method of construction is referred to by Algonquin as the lift and relay method. After construction, a 30-to 50-foot-wide permanent right-of-way would be retained.

The proposed Rehoboth Compressor Station would require approximately 10 acres of land for permanent development of the compressor station and associated roads and piping. Algonquin is considering the acquisition of land parcels totaling approximately 97 acres for the station.

The modifications to the four existing compressor stations would occur within the fenceline of the existing developed compressor station sites. The over-pressure protection regulation at the two existing meter stations would be installed within previously disturbed areas at the meter station sites. The over-pressure regulator stations at the two new sites would require approximately 1 acre at each site. The installation of gas chromatographs at the 29 existing meter stations along the Algonquin system would occur within the fenceline of the existing developed meter station site. The mainline valves and pig launchers and receivers would be installed within the permanent right-of-way and would not require additional land.

Public Participation

You can make a difference by providing us with your specific comments or concerns about the potential changes to Algonquin's proposal. By becoming a commentor, your concerns will be addressed in our EIS and considered during the NEPA and MEPA reviews. Your comments should focus on the potential environmental effects, reasonable alternatives, and measures to avoid or lessen the environmental impact. The more specific your comments, the more useful they will be.

To expedite our receipt and consideration of your comments, the Commission strongly encourages electronic submission of any comments on this Project. See Title 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf.

Quick Comment does not require a FERC eRegistration account; however, you will be asked to provide a valid e-mail address. All comments submitted under either eFiling or the Quick Comment option are placed in the public record for the specified docket or project number(s). The docket no. for the E2W Project is PF07-15-000. Your comments must be submitted electronically by May 14, 2008.

If you wish to mail comments, please mail your comments so that they will be received in Washington, DC on or before May 14, 2008 and carefully follow these instructions:

Send an original and two copies of your letter to:

• Kimberly D. Bose, Secretary, Federal Energy Regulatory Commission, 888 First St., NE., Room 1A, Washington, DC 20426;

• Label one copy of your comments for the attention of the Gas Branch 3, DG2E; and

• Reference Docket No. PF07-15-000 on the original and both copies.

Once Algonquin formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

Everyone who provides comments on this Supplemental NOI will be retained on the mailing list. If you do not want to send comments at this time but still want to stay informed and receive copies of the draft and final EISs, you must return the Mailing List Retention Form (Appendix 3). Also, indicate on the form your preference for receiving a paper version of the EIS in lieu of an electronic version of the EIS on CD-ROM.

Note: If you are no longer potentially affected by the proposed Project due to the reduction in proposed facilities (e.g., removal of the Boxford/Danvers Compressor Station, 12.2 miles of the proposed Q-1 System Replacement, and 3.6 miles of the proposed C-1 System Replacement) you will be taken off the mailing list if you do not send comments in response to this Supplemental NOI or return the Mailing List Retention Form (Appendix 3). This is an effort to reduce unnecessary correspondences for those parties that are no longer potentially affected by this Project.

If you have previously submitted comments or returned a Mailing List Retention Form and are not subject to removal from our mailing list, as stated above, you are already on our mailing list and do not need to resubmit comments or a Mailing List Retention Form.

Additional Information

Additional information about the Project is available from the Commission's Office of External Affairs at 1-866-208-FERC or on the FERC Internet Web site (http://www.ferc.gov) using the “eLibrary” link. Click on the eLibrary link, click on “General Search,” and enter the docket number excluding the last three digits in the Docket Number field (i.e., PF07-15). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as Orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

To request additional information on the proposed Project or to provide comments directly to the Project sponsor, you can contact Algonquin by calling toll free at 1-800-788-4143. Also, Algonquin has established an Internet Web site at http://www.easttowestexpansion.com. The Web site includes a description of the Project, an overview map of the pipeline route, links to related documents, and photographs of the Project area. Algonquin will update the Web site as the environmental review of its Project proceeds.

Kimberly D. Bose,
Secretary.

[FR Doc. E8-8497 Filed 4-18-08; 8:45 am]

BILLING CODE 6717-01-P